DEPARTMENT OF EDUCATION

34 CFR Part 5

RIN 1880-AA84

[Docket ID ED-2008-OM-0011]

Availability of Information to the Public; Correction

AGENCY: Office of the Secretary, Department of Education.

ACTION: Final rule; correction.

SUMMARY: On June 14, 2010, the Department of Education (Department) published in the Federal Register a final rule amending the Department's Freedom of Information Act (FOIA) regulations, and a correction was published in the Federal Register on January 26, 2024. The 2010 final rule implemented amendments made to the FOIA statute and clarified how the Department processes FOIA requests for agency records, and the January 26, 2024, document corrected the administrative exhaustion provisions related to the Appeals of Adverse Determinations section in the FOIA regulations. We are correcting the title of that revised provision, which inadvertently was omitted in the January 26, 2024 correction. All other provisions in the FOIA regulations remain the same.

DATES: This correction is effective February 16, 2024.

FOR FURTHER INFORMATION CONTACT: Deborah O. Moore, Department of Education, 400 Maryland Avenue SW, Washington, DC 20202. Telephone: (202) 381-1414. Email: Deborah.Moore@ed.gov.

If you are deaf, hard of hearing, or have a speech disability and wish to access telecommunications relay services, please dial 7-1-1.

SUPPLEMENTARY INFORMATION: On June 14, 2010, the Department published a final rule amending the Department's FOIA regulations in 34 CFR part 5, including § 5.40(b) (Appeals of Adverse Determinations). On January 26, 2024, we corrected that provision to strike the last sentence, which contained erroneous language. 89 FR 5097. Because the title of the corrected provision inadvertently was omitted in the amendatory instructions, we are correcting that provision to add back the original title, “Appeal requirements.”

All other information in the 2010 final rule remains the same, except for the provisions that were amended on December 12, 2019 (84 FR 67865) and January 26, 2024 (89 FR 5097).

Waiver of Rulemaking

Under the Administrative Procedure Act (APA) (5 U.S.C. 553), the Department generally offers interested parties the opportunity to comment on proposed regulations. However, the APA provides that an agency is not required to conduct notice-and-comment rulemaking when the agency, for good cause, finds that notice and public comment are impracticable, unnecessary, or contrary to the public interest (5 U.S.C. 553(b)(B)).

Rulemaking is “unnecessary” in those situations in which “the administrative rule is a routine determination, insignificant in nature and impact, and inconsequential to the industry and to the public.” Utility Solid Waste Activities Group v. EPA, 236 F.3d 749, 755 (D.C. Cir. 2001), quoting U.S. Department of Justice, Attorney General's Manual on the Administrative Procedure Act 31 (1947) and South Carolina v. Block, 558 F. Supp. 1004, 1016 (D.S.C. 1983).

There is good cause to waive rulemaking here, because rulemaking is unnecessary. The actions in this document merely correct an inadvertent deletion of an existing regulatory title and are not an exercise of the Department's discretion. Thus, the Secretary has determined that publication of a proposed rule is unnecessary under 5 U.S.C. 553(b)(B).

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

List of Subjects in 34 CFR Part 5

Administrative practice and procedure, Investigations.

Accordingly, part 5 of title 34 of the Code of Federal Regulations is corrected by making the following correcting amendments:

PART 5—AVAILABILITY OF INFORMATION TO THE PUBLIC

1. The authority citation for part 5 continues to read as follows:

Authority: 5 U.S.C. 552, 20 U.S.C. 1221e-3, and 20 U.S.C. 3474.

2. Section 5.40 is amended by adding a subject heading to paragraph (b) to read as follows:

§ 5.40 Appeals of adverse determinations.

* * * * *

(b) Appeal requirements. * * *

* * * * *

Alexis Barrett,
Chief of Staff, Office of the Secretary Department of Education.

[FR Doc. 2024-03267 Filed 2-15-24; 8:45 am]

BILLING CODE 4000-01-P